DEPARTMENT OF COMMERCE

National Oceanic and Atmospheric Administration

[042705A]

U.S. Climate Change Science Program Workshop: Climate Science in Support of Decisionmaking

AGENCY: National Oceanic and Atmospheric Administration (NOAA), Department of Commerce.

ACTION: Notice, public workshop and opportunity for public discussion.

SUMMARY: The National Oceanic and Atmospheric Administration publishes this notice to announce the U.S. Climate Change Science Program (CCSP) Workshop: Climate Science in Support of Decisionmaking, addressing the capability of science to inform decisionmaking. This workshop will include discussion of decisionmaker needs for scientific information on climate variability and change, as well as expected outcomes of CCSP's research and assessment activities that are necessary for resource management, adaptive planning, and policy formulation.

DATES: The workshop will be held Monday, November 14, 2005, from 8:30 a.m. to 5:30 p.m., Tuesday, November 15, 2005, from 8:30 a.m. to 5:30 p.m., and Wednesday, November 16, 2005, from 8:30 a.m. to noon.

ADDRESSES: The workshop will be held at the Marriott Crystal Gateway, 1700 Jefferson Davis Highway in Arlington, VA.

FOR FURTHER INFORMATION CONTACT: Sandy MacCracken, Telephone: 202-223 6262, Fax: 202 223 3065, Email: smaccrac@usgcrp.gov.

SUPPLEMENTARY INFORMATION: The Climate Change Science Program, sponsored by 13 participating departments and agencies of the U.S. Government, coordinates and integrates scientific research on changes in climate and related systems. The CCSP Strategic Plan emphasizes the application of knowledge from CCSP to develop, improve, and disseminate products for use in decisionmaking related to climate variability and change. Many CCSP programs and activities address these needs-for example, the use of observations and seasonal-to-interannual climate forecasts in the management of natural resources, or application of scientific knowledge in integrated assessments of global change.

The CCSP Strategic Plan calls for the development of 21 Synthesis and Assessment products that provide current evaluations of climate science issues, complementing other international assessments such as that prepared by the Intergovernmental Panel on Climate Change (IPCC). To maximize the effectiveness of all CCSP products, it is vital that these products account for the science information needs of their users. The workshop will be an opportunity for scientists and user communities to discuss future application and development of climate science, recognizing the multiple ways in which climate information will be utilized to address societal and scientific challenges.

Status: The times above may be subject to change. Refer to the website listed below for a final meeting agenda. Participation will be limited to the first 800 registrants. Webcast of the proceedings may be arranged if demand for participation exceeds this limit. Early registration is strongly encouraged. A registration form and other logistical information, including fees, are available at: http://www.climatescience.gov/workshop2005.

The workshop will include both plenary and breakout sessions. The plenary sessions will include presentations by leading figures from the international scientific community and the government, NGO, and private sectors. The breakout sessions will foster interactions among those involved in producing CCSP decision support resources, and representatives of the scientific, resource management, policy development, and other stakeholder communities.Abstracts for contributed presentations at the workshop that focus on development of scientific resources for decisionmaking are encouraged. Instructions on how to submit abstracts will be posted by June 1, 2005 at: www.climatescience.gov/workshop2005/contribpres.htm.

Dated: April 28, 2005.
James R. Mahoney,
Assistant Secretary of Commerce for Oceans and Atmosphere, Director, Climate Change Science Program.

[FR Doc. 05-8862 Filed 5-3-05; 8:45 am]

BILLING CODE 3510-12-S